DEPARTMENT OF HEALTH AND HUMAN SERVICES

Centers for Disease Control and Prevention

[60Day-12-0128]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Kimberly S. Lane, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Congenital Syphilis (CS) Case investigation and Report Form (CDC73.126), (OMB) No.0920-0128, Expiration (03/31/2013)—Revision—Division of STD Prevention (DSTDP), National Center for HIV, Viral Hepatitis, STD and TB Prevention (NCHHSTP), Centers for Disease Control and Prevention (CDC).

Background and Brief Description

Congenital syphilis (CS) is an important sentinel health event that marks potential problems in both prenatal care and syphilis prevention programs. Congenital syphilis (CS) is nearly 100% preventable by early detection and treatment of syphilis in pregnant women before or during pregnancy.

Reducing congenital syphilis is a national objective in the U.S. Department of Health and Human Services report entitled, “Healthy People 2020”.

The CDC continues to collect and report information on congenital syphilis morbidity as part of its ongoing Sexually Transmitted Disease (STD) surveillance efforts. A reporting form for congenital syphilis (CDC Form 73.126) was initiated in 1983 to improve detection, case management, and treatment of congenital syphilis cases. Continued data collection will assist in identifying needs for congenital syphilis prevention efforts nationwide.

The current CS reporting form was revised and approved by OMB in 2009 to collect information based on the surveillance case definition and removal of Reporting city information. It is being used by all health jurisdictions reporting CS to CDC as part of the National Notifiable Diseases Surveillance. For the new approval period, CDC requests elimination of the field “Did the infant/child have an IgM-specific treponemal test?” This data element is no longer required because treponemal IgM technologies, for the purpose of identifying CS in an infant, are highly insensitive. The following fields have been added: “Mothers obstetric history”, “Did mother have treponemal test result: If so, when was the test performed?” “What stage of syphilis did mother have?”, “Date of Mother's treatment”, “What was mother's treatment?” “Congenital Syphilis Case Classification—Presumptive has been replaced with probable,” as there is no case definition for presumptive congenital syphilis.

This information collection is authorized under Sections 301 and 318 of the Public Health Service Act (42 U.S.C. 241 and 247c).

The congenital syphilis data will continue to be used to develop intervention strategies and to evaluate ongoing control efforts. There is no cost to respondents other than their time.

Estimate of Annualized Burden Table
Types of respondent | Form name | Number of respondents | Number of responses per respondent | Average Burden per Response (in hours) | Total annual burden (in hours)
State Health Departments | Congenital Syphilis (CS) Case Investigation and Report | 10 | 11 | 20/60 | 37
Territorial Health Agencies | Congenital Syphilis (CS) Case Investigation and Report | 3 | 11 | 20/60 | 11
City and county health departments | Congenital Syphilis (CS) Case Investigation and Report | 4 | 11 | 20/60 | 15
Total |  | 17 |  |  | 63

Dated: July 31, 2012.
Ron A. Otten,
Director, Office of Scientific Integrity (OSI), Office of the Associate Director for Science (OADS), Office of the Directors, Centers for Disease Control and Prevention.

[FR Doc. 2012-19235 Filed 8-6-12; 8:45 am]

BILLING CODE 4163-18-P